DEPARTMENT OF COMMERCE

International Trade Administration

[A-570-916]

Laminated Woven Sacks From the People's Republic of China: Preliminary Results of Antidumping Duty Administrative Review; 2013-2014

AGENCY: Enforcement and Compliance, International Trade Administration, Department of Commerce.

SUMMARY: In response to a request from the Laminated Woven Sacks Committee (“Petitioner”), the Department of Commerce (“the Department”) initiated an administrative review of the antidumping duty Order on laminated woven sacks from the People's Republic of China (“PRC”).¹ The administrative review covers nine ² companies for the period of review (“POR”) August 1, 2013, through July 31, 2014. We invite interested parties to comment on these preliminary results.

¹ See Initiation of Antidumping and Countervailing Duty Administrative Reviews and Request for Revocation, in Part, 79 FR 58729 (September 30, 2014) (“Initiation Notice”); see also Notice of Antidumping Duty Order: Laminated Woven Sacks From the People's Republic of China, 73 FR 45941 (August 7, 2008) (“Order”).

² The nine companies are: Changle Baodu Plastic Co., Ltd., Shangdong Qikai Plastics Product Co., Ltd., Wenzhou Hotsun Plastics Co., Ltd., Zibo Aifudi Plastic Packaging Co., Ltd., Zibo Linzi Luitong Plastic Fabric Co., Ltd., Zibo Linzi Shuaiqiang Plastics Co., Ltd., Zibo Linzi Qitianli Plastic Fabric Co., Ltd., Zibo Linzi Worun Packing Product Co., Ltd., and Zibo Qigao Plastic Cement Co., Ltd.

DATES: Effective Date: January 28, 2015.

FOR FURTHER INFORMATION CONTACT: Irene Gorelik, AD/CVD Operations, Office V, Enforcement and Compliance, International Trade Administration, U.S. Department of Commerce, 14th Street and Constitution Avenue NW., Washington, DC 20230; telephone: (202) 482-6905.

SUPPLEMENTARY INFORMATION: On September 30, 2014, the Department initiated an administrative review of the Order on laminated woven sacks from the PRC covering nine PRC firms for the POR.³

³ See Initiation Notice, 79 FR at 58729.

Scope of the Order

The merchandise covered by the Order ⁴ is laminated woven sacks.⁵ Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (“BOPP”) or to an exterior ply of paper that is suitable for high quality print graphics. Effective July 1, 2007, laminated woven sacks are classifiable under Harmonized Tariff Schedule of the United States (“HTSUS”) subheadings 6305.33.0050 and 6305.33.0080. Laminated woven sacks were previously classifiable under HTSUS subheading 6305.33.0020.⁶ The HTSUS subheadings are provided for convenience and customs purposes only; the written product description of the scope of the order is dispositive.

⁴ See Order, 73 FR at 45941.

⁵ For a complete description of the Scope of the Order, see “Decision Memorandum for the Preliminary Results of the 2013-2014 Administrative Review: Laminated Woven Sacks from the People's Republic of China,” from Christian Marsh, Deputy Assistant Secretary for Antidumping and Countervailing Duty Operations, to Paul Piquado, Assistant Secretary for Enforcement and Compliance, (“Preliminary Decision Memorandum”), dated concurrently with these preliminary results.

⁶ Additional HTSUS considerations apply. See Preliminary Decision Memorandum. Moreover, at the request of U.S. Customs and Border Protection (“CBP”), the Department added the USHTS subheading 6305.33.0040 to the ACE CRF for the antidumping duty order. See “Memorandum to the File, from Irene Gorelik, Analyst, re: Addition of U.S. Harmonized Tariff Schedule (“USHTS”) Numbers to the Automated Commercial Enterprise (“ACE”) Case Reference File (“CRF”),” dated September 24, 2014.

Methodology

The Department has conducted this review in accordance with section 751(a)(2) of the Tariff Act of 1930, as amended (“the Act”). For a full description of the methodology underlying our conclusions, see the Preliminary Decision Memorandum, which is hereby adopted by this notice. The Preliminary Decision Memorandum is a public document and is on file electronically via Enforcement and Compliance's Antidumping and Countervailing Duty Centralized Electronic Service System (ACCESS).⁷ ACCESS is available to registered users at http://access.trade.gov and in the Central Records Unit, room 7046 of the main Department of Commerce building. In addition, parties can obtain a complete version of the Preliminary Decision Memorandum on the Internet at http://trade.gov/enforcement/frn/index.html. The signed Preliminary Decision Memorandum and the electronic versions of the Preliminary Decision Memorandum are identical in content.

⁷ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Background

The Initiation Notice states that “{i}f a producer or exporter named in this notice of initiation had no exports, sales, or entries during the period of review . . . it must notify the Department within 60 days of publication of this notice in the Federal Register.” ⁸ None of the nine companies initiated for review filed “no shipment” certifications. The Initiation Notice also notifies the firms initiated for review that they “must complete, as appropriate, either a separate rate application or certification” if they want to qualify for a separate rate in this administrative review.⁹ None of the nine companies initiated for review filed separate rate certifications or applications.

⁸ See Initiation Notice, 79 FR at 58729.

⁹ Id., at 58730.

Preliminary Results of Review

Because none of the nine companies initiated for review provided the Department with either a “no shipment” certification or separate rate eligibility documentation, we preliminarily find these nine companies to be part of the PRC-wide entity.¹⁰ The rate previously established for the PRC-wide entity in this proceeding is 47.64 percent.¹¹

¹⁰ See Preliminary Decision Memorandum. Pursuant to the Department's change in practice, the Department no longer considers the non-market economy entity as an exporter conditionally subject to administrative reviews. See Antidumping Proceedings: Announcement of Change in Department Practice for Respondent Selection in Antidumping Duty Proceedings and Conditional Review of the Nonmarket Economy Entity in NME Antidumping Duty Proceedings, 78 FR 65963, 65970 (November 4, 2013). Under this practice, the non-market economy entity will not be under review unless a party specifically requests, or the Department self-initiates, a review of the entity. Because no party requested a review of the entity, the entity is not under review and the entity's rate is not subject to change.

¹¹ See Implementation of Determinations Under Section 129 of the Uruguay Round Agreements Act: Certain New Pneumatic Off-the-Road Tires; Circular Welded Carbon Quality Steel Pipe; Laminated Woven Sacks; and Light-Walled Rectangular Pipe and Tube From the People's Republic of China, 77 FR 52683, 52688 (August 30, 2012).

Public Comment

Interested parties are invited to comment on these preliminary results and submit written arguments or case briefs within 30 days after the date of publication of this notice, unless otherwise notified by the Department (see 19 CFR 351.309(c)(ii)). Parties are reminded that they should not submit new factual information in written arguments or case briefs. Rebuttal briefs, limited to issues raised in the case briefs, will be due five days later (see 19 CFR 351.309(d)). Parties who submit case or rebuttal briefs are requested to submit with each argument: (1) A statement of the issue; and (2) a brief summary of the argument. Parties are also requested to provide a summary of the arguments not to exceed five pages and a table of statutes, regulations, and cases cited (see 19 CFR 351.309).¹²

¹² See also 19 CFR 351.303 for filing requirements.

Interested parties who wish to request a hearing, or to participate if one is requested, must submit a written request to the Assistant Secretary for Enforcement and Compliance, U.S. Department of Commerce, filed electronically using ACCESS (see 19 CFR 351.310(c)). An electronically filed document must be received successfully in its entirety by the Department's electronic records system, ACCESS, by 5:00 p.m. Eastern Standard Time, within 30 days after the date of publication of this notice. Requests should contain the party's name, address, and telephone number, the number of participants, and a list of the issues to be discussed. If a request for a hearing is made, the Department will inform parties of the scheduled date for the hearing which will be held at the U.S. Department of Commerce, 14th Street and Constitution Avenue NW., Washington, DC 20230, at a time and location to be determined. Parties should confirm by telephone the date, time, and location of the hearing.

The Department intends to issue the final results of this administrative review, including the results of our analysis of issues raised in the written comments, within 120 days of publication of these preliminary results in the Federal Register (see section 751(a)(3)(A) and the Act and 19 CFR 351.213(h)(1)).

Assessment Rates

Upon issuance of the final results, the Department will determine, and CBP shall assess, antidumping duties on all appropriate entries covered by this review (see 19 CFR 351.212(b)(1)). The Department intends to issue assessment instructions to CBP 15 days after the date of publication of the final results of review. For the final results, if we continue to treat the nine companies upon which the review was initiated as part of the PRC-wide entity, we will instruct CBP to apply an ad valorem assessment rate of 47.64 percent to all entries of subject merchandise during the POR which were produced and/or exported by those companies.

The Department announced a refinement to its assessment practice in non-market economy (“NME”) cases.¹³ Pursuant to this refinement in practice, for entries that were not reported by companies examined during this review, the Department will instruct CBP to liquidate such entries at the NME-wide rate. In addition, if the Department determines that an exporter under review had no shipments of the subject merchandise, any suspended entries that entered under that exporter's case number (i.e., at that exporter's rate) will be liquidated at the NME-wide rate.¹⁴

¹³ For a full discussion of this practice, see Non-Market Economy Antidumping Proceedings: Assessment of Antidumping Duties, 76 FR 65694 (October 24, 2011) (“NME Assessment 2011”).

¹⁴ Id.

Cash Deposit Requirements

The following cash deposit requirements will be effective upon publication of the final results of this administrative review for shipments of the subject merchandise from the PRC entered, or withdrawn from warehouse, for consumption on or after the publication date, as provided by sections 751(a)(2)(C) of the Act: (1) For previously investigated or reviewed PRC and non-PRC exporters that received a separate rate in a prior segment of this proceeding, the cash deposit rate will continue to be the existing exporter-specific rate; (2) for all PRC exporters of subject merchandise that have not been found to be entitled to a separate rate (including those companies identified above upon which this review was initiated), the cash deposit rate will be that for the PRC-wide entity; and (3) for all non-PRC exporters of subject merchandise which have not received their own rate, the cash deposit rate will be the rate applicable to the PRC exporter that supplied that non-PRC exporter. These deposit requirements, when imposed, shall remain in effect until further notice.

Notification to Importers

This notice serves as a preliminary reminder to the importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice is published in accordance with sections 751(a)(1) and 777(i)(1) of the Act, and 19 CFR 351.221(b)(4).

Dated: January 22, 2015.
Paul Piquado,
Assistant Secretary for Enforcement and Compliance.

Appendix

List of Topics Discussed in the Preliminary Decision Memorandum

1. Summary

2. Background

3. Scope of the Order

4. Discussion of Methodology

5. Recommendation

[FR Doc. 2015-01588 Filed 1-27-15; 8:45 am]

BILLING CODE 3510-DS-P